ENVIRONMENTAL PROTECTION AGENCY

[ER-FRL-9039-04-OP]

Environmental Impact Statements; Notice of Availability

Responsible Agency: Office of Federal Activities, General Information (202) 564-7156 or https://www2.epa.gov/nepa/.

Weekly receipt of Environmental Impact Statements

Filed 05/07/2018 Through 05/11/2018

Pursuant to 40 CFR 1506.9

Notice

Section 309(a) of the Clean Air Act requires that EPA make public its comments on EISs issued by other Federal agencies. EPA's comment letters on EISs are available at: https://cdxnodengn.epa.gov/cdx-nepa-public/action/eis/search.

EIS No. 20180095, Final, USFWS, CA, Final Environmental Impact Statement/Environmental Impact Report for the South Sacramento Habitat Conservation Plan, Review Period Ends: 06/21/2018, Contact: Nina Bicknese 916-414-6633.

EIS No. 20180096, Final Supplement, BLM, CA, Palen Solar Project (formerly Palen Solar Power Project), Final Supplemental Environmental Impact Statement/Environmental Impact Report/Land Use Plan Amendment, Review Period Ends: 06/21/2018, Contact: Mark DeMaio 760-833-7124.

EIS No. 20180097, Final, USFS, CO, Travel Management—Rico West Dolores Roads and Trails Project, Review Period Ends: 06/21/2018, Contact: Deborah Kill 970-882-6822.

EIS No. 20180098, Final, USFS, MT, Starry Goat, Review Period Ends: 06/21/2018, Contact: Lisa Osborn 406-295-7426.

EIS No. 20180099, Draft, FAA, AZ, Tucson International Airport—Airfield Safety Enhancement Project, Comment Period Ends: 07/09/2018, Contact: David B. Kessler, AICP 310-725-3615.

EIS No. 20180100, Final, USFS, CO, P District-wide Salvage Project, Review Period Ends: 07/05/2018, Contact: Mike Tooley 719-274-6321.

EIS No. 20180101, Draft Supplement, Caltrans, CA, SR 710 North Study FRDEIR/SDEIS_05-09-18, Comment Period Ends: 07/05/2018, Contact: Jason Roach 213-897-0357.

EIS No. 20180102, Draft, NMFS, FL, Coral Habitat Areas Considered for Habitat Areas of Particular Concern Designation in the Gulf of Mexico, Comment Period Ends: 07/05/2018, Contact: Lauren Waters 727-209-5991.

EIS No. 20180103, Final, USFWS, CA, Otay River Estuary Restoration Project, South San Diego Bay Unit of the San Diego Bay National Wildlife Refuge, California, Final Environmental Impact Statement, Review Period Ends: 06/21/2018, Contact: Brian Collins 619-575-2704.

Dated: May 17, 2018.
Brittany Bolen,
Acting Assistant Administrator, Office of Policy.

[FR Doc. 2018-10937 Filed 5-18-18; 8:45 am]

BILLING CODE 6560-50-P